DEPARTMENT OF HEALTH AND HUMAN SERVICES

Health Resources and Services Administration

Agency Information Collection Activities: Proposed Collection: Public Comment Request

AGENCY: Health Resources and Services Administration, HHS.

ACTION: Notice.

SUMMARY: In compliance with the requirement for opportunity for public comment on proposed data collection projects (Section 3506(c)(2)(A) of the Paperwork Reduction Act of 1995), the Health Resources and Services Administration (HRSA) announces plans to submit an Information Collection Request (ICR), described below, to the Office of Management and Budget (OMB). Prior to submitting the ICR to OMB, HRSA seeks comments from the public regarding the burden estimate, below, or any other aspect of the ICR.

DATES: Comments on this Information Collection Request must be received no later than December 1, 2014.

ADDRESSES: Submit your comments to paperwork@hrsa.gov or mail the HRSA Information Collection Clearance Officer, Room 10-29, Parklawn Building, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference.

Information Collection Request Title: Health Professions Student Loan (HPSL) Program and Nursing Student Loan (NSL) Program Administrative Requirements (Regulations and Policy). OMB No. 0915-0047—Extension.

Abstract: The statutory authorities for the Health Professions Student Loan (HPSL) Program, as authorized by Public Health Service (PHS) Act sections 721-722 and 725-735, and the Nursing Student Loan (NSL) Program, as authorized by PHS Act sections 835-842, contain a number of recordkeeping and reporting requirements for academic institutions and loan applicants. The applicable regulations for these programs under 42 CFR Part 57 details the various requirements (see chart below).

Need and Proposed Use of the Information: The requirements are essential for assuring that borrowers are aware of their rights and responsibilities, academic institutions have accurate records of the history and status of each loan account in order to pursue aggressive collection efforts to reduce default rates, and that academic institutions maintain adequate records for audit and assessment purposes to help the U.S. Department of Health and Human Services safeguard federal funds made through the Federal Capital Contribution (FCC). Academic institutions are free to use improved information technology to manage the information required by the regulations.

Likely Respondents: Financial Aid Directors working at institutions participating in the HPSL and NSL Programs.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this Information Collection Request are summarized in the table below.

Total Estimated Annualized burden hours:

Recordkeeping Requirements
Regulatory/section requirements | Number of recordkeepers | Hours per year | Total burden hours
HPSL Program:
57.206(b)(2), Documentation of Cost of Attendance | 435 | 1.17 | 509
57.208(a), Promissory Note | 435 | 1.25 | 544
57.210(b)(1)(i), Documentation of Entrance Interview | 435 | 1.25 | 544
57. 210(b)(1)(ii), Documentation of Exit Interview | *477 | 0.33 | 157
57.215(a) & (d), Program Records | *477 | 10 | 4,770
57.215(b), Student Records | *477 | 10 | 4,770
57.215(c), Repayment Records | *477 | 18.75 | 8,944
HPSL Subtotal | 477 |  | 20,238
NSL Program:
57.306(b)(2)(ii), Documentation of Cost of Attendance | 304 | 0.3 | 91
57.308(a), Promissory Note | 304 | 0.5 | 152
57.310(b)(1)(i), Documentation of Entrance Interview | 304 | 0.5 | 152
57. 310(b)(1)(ii), Documentation of Exit Interview | *486 | 0.17 | 83
57.315(a)(1) & (a)(4), Program Records | *486 | 5 | 2,430
57.315(a)(2), Student Records | *486 | 1 | 486
57.215(b)(3), Repayment Records | *486 | 2.51 | 1,220
NSL Subtotal | 486 |  | 4,614 5
* Includes active and closing schools HPSL data include active and closing Loans for Disadvantaged Students (LDS) program schools

Reporting Requirements
Regulatory/section requirements | Number of respondents | Responses per respondent | Total annual responses | Hours per response | Total burden hours
HPSL:
57.206(a)(2), Student Financial Aid Transcript | 4,600 | 1 | 4,600 | 0.25 | 1,150
57.208(c), Loan Information Disclosure | 435 | 68.73 | 29,898 | 0.0833 | 2,490
57.210(b)(1)(i), Entrance Interview | 435 | 68.73 | 29,898 | 0.167 | 4,993
57.210(b)(1)(ii), Exit Interview | *477 | 12 | 5,724 | 0.5 | 2,862
57.210(b)(1)(iii), Notification of Repayment | *477 | 30.83 | 14,706 | 0.167 | 2,456
57.210(b)(1)(iv), Notification During Deferment | *477 | 24.32 | 11,601 | 0.0833 | 966
57.210(b)(1)(vi), Notification of Delinquent Accounts | *477 | 10.28 | 4,904 | 0.167 | 819
57.210(b)(1)(x), Credit Bureau Notification | *477 | 8.03 | 3,830 | 0.6 | 2,298
57.210(b)(4)(i), Write-off of Uncollectable Loans | 20 | 1 | 20 | 3 | 60
57.211(a), Disability Cancellation | 10 | 1 | 10 | 0.75 | 8
57.215(a)(2), Administrative Hearings | 0 | 0 | 0 | 0 | 0
57.215(a)(d), Administrative Hearings | 0 | 0 | 0 | 0 | 0
HPSL Subtotal |  |  |  |  | 18,102
NSL:
57.306(a)(2), Student Financial Aid Transcript | 4,100 | 1 | 4,100 | 0.25 | 1,025
57.310(b)(1)(i), Entrance Interview | 304 | 23.51 | 7,147 | 0.167 | 1,193
57.310(b)(1)(ii), Exit Interview | *486 | 3.77 | 1,832 | 0.5 | 916
57.310(b)(1)(iii), Notification of Repayment | *486 | 6.18 | 3,003 | 0.167 | 501
57.310(b)(1)(iv), Notification During Deferment | *486 | 0.65 | 316 | 0.083 | 26
57.310(b)(1)(vi), Notification of Delinquent Accounts | *486 | 4.61 | 2,240 | 0.167 | 374
57.310(b)(1)(x), Credit Bureau Notification | *486 | 8.3 | 4,034 | 0.6 | 2,420
57.310(b)(4)(i), Write-off of Uncollectable Loans | 20 | 1 | 20 | 3.5 | 70
57.311(a), Disability Cancellation | 10 | 1 | 10 | 0.8 | 8
57.315(a)(1)(ii), Administrative Hearings | 0 | 0 | 0 | 0 | 0
57.316(a)(d), Administrative Hearings | 0 | 0 | 0 | 0 | 0
NSL Subtotal |  |  |  |  | 6,533
* Includes active and closing schools.

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Dated: September 23, 2014.
Jackie Painter,
Acting Director, Division of Policy and Information Coordination.

[FR Doc. 2014-23181 Filed 9-29-14; 8:45 am]

BILLING CODE 4165-15-P